DEPARTMENT OF THE INTERIOR

Bureau of Land Management

[OR-090-05-1430-EU; GP-05-0100]

Modified Competitive Sales of Public Land; Oregon, Parcel I (OR 55523) and Parcel II (OR 60928)

AGENCY: Bureau of Land Management, Interior.

ACTION: Notice of realty action.

SUMMARY: This notice announces the proposed sale of two small parcels of public land, totaling 3.89 acres, located in Lane County, Oregon at not less than appraised market value. These parcels are proposed to be sold through modified competitive procedures.

DATES: Submit comments on or before September 30, 2005.

ADDRESSES: Address all written comments concerning this Notice to Steven Calish, Siuslaw Field Manager, Bureau of Land Management (BLM) Eugene District Office, P.O. Box 10226, Eugene, Oregon 97440. Electronic format submittal will not be accepted.

FOR FURTHER INFORMATION CONTACT: Cheryl Adcock (BLM), Realty Specialist, at (541) 683-6145.

SUPPLEMENTARY INFORMATION: The following described public lands in Lane County, Oregon are suitable for sale under Sections 203 and 209 of the Federal Land Policy and Management Act of 1976 (90 Stat. 2750, 43 U.S.C. 1713 and 1719). These lands are difficult and uneconomic to manage as a part of the public lands and are not suitable for management by another Federal agency. No significant resource values will be affected by this disposal. The parcels proposed for sale are identified as suitable for disposal in the Eugene District Record of Decision and Resource Management Plan, dated June, 1995. The parcels proposed for sale are identified as follows:

Parcel I (OR 55523)

Willamette Meridian, Oregon

T. 16 S., R. 6 W.

Sec. 13, lot 2.

The area described contains 1.4 acres. The appraised fair market value for Parcel I, including merchantable timber, is $7,600.

Parcel II (OR 60928)

Willamette Meridian, Oregon

T. 16 S., R. 6 W.

Sec. 13, lot 1.

The area described contains 2.49 acres. The appraised fair market value for Parcel II, including merchantable timber, is $24,100.

In accordance with 43 CFR 2710.0-6(c)(3)(ii), modified competitive sale procedures are appropriate to protect on-going uses, to assure compatibility of the possible uses with adjacent lands, and avoid dislocation of existing users. There is no public access to Parcel II. Both Parcel I and Parcel II are irregularly shaped and are part of a survey hiatus identified by the BLM in 1999.

Bidding for Parcel I is open only to the following adjacent landowners (designated bidders): Gayla Wardwell, Richard W. Guelker, Helen L. Guelker, Joshua R. John, and Douglas L. Gross.

Bidding for Parcel II is open only to the following adjacent landowners (designated bidders): Laurie Riley, Duane Riley, Brenda L. Neely, Joseph A. Neely, Wanda Parr, Michael W. Parr, David D. Little and Weyerhaeuser Company.

Both parcels will be offered for sale at public auction beginning at 10:00 a.m. (local time) on October 20, 2005, at 2890 Chad Drive, Eugene, Oregon, 97401-9336. Sale will be by sealed bid only. All sealed bids must be received by the BLM's Eugene District Office at 2890 Chad Drive, Eugene, Oregon, 97401-9336, (mailing address: P.O. Box 10226, Eugene, Oregon 97440) prior to 10:00 a.m. on October 20, 2005. Bid envelopes must be marked on the lower left front corner either, “Sale Parcel I (OR 55523)” or “Sale Parcel II (OR 60928)”. Bids must be for not less than the appraised market value for each parcel specified in this Notice. Each sealed bid shall be accompanied by a certified check, postal money order, bank draft, or cashier's check made payable to the “Department of the Interior, BLM” for not less that 10 percent of the amount bid.

Under modified competitive sale procedures, the written sealed bids will be opened and an apparent high bid will be declared at the sale. The apparent high bidder and the other designated bidders will be notified by mail. In case of a tie of bids submitted by interested designated bidders, the interested designated bidders would be given an opportunity to submit a written agreement as to the division of lands, or an additional sealed bid, meeting the above-stated requirements, within 30 days written notification of eligibility. At that time, the high bidder would be awarded the property. The total purchase price for the land shall be paid within 180 days of the date of this sale.

Additional Terms and Conditions of Sale

If either or both of the parcels are not sold on October 20, 2005, the parcel will be re-offered on a continuing basis in accordance with the competitive sale procedures described in 43 CFR 2711.3-1. Sealed bids prepared and submitted in the manner described above, will be accepted from any qualified bidder. Bids will be opened at 10 a.m. (local time), on the 14th day of each month thereafter, through December 14, 2005, unless an apparent high bid is declared prior to that date.

Federal law requires that public land may be sold only to either (1) citizens of the United States, 18 years of age or over; (2) corporations subject to the laws of any State or of the United States; (3) a State, State instrumentality or political subdivision authorized to hold property; (4) an entity legally capable of conveying and holding lands or interests therein under the laws of the State within which the lands to be conveyed are located. Certifications and evidence to this effect will be required of the purchaser prior to issuance of a patent.

The following rights, reservations, and conditions will be included in the patent conveying the land:

1. A right-of-way for ditches and canals will be reserved to the United States under the authority of the Act of August 30, 1890 (26 Stat. 291; 43 U.S.C. 945).

2. The patent will include a notice and indemnification statement under the Comprehensive Environmental Response, Compensation and Liability Act. All parcels are subject to the requirements of section 120(h)(42 U.S.C. section 9620) holding the United States harmless from any release of hazardous materials that may have occurred as a result of the unauthorized use of the property by other parties. No warranty of any kind, express or implied, is given by the United States as to the title, physical condition or potential uses of the parcel of land proposed for sale.

3. The patent will be issued subject to all valid existing rights and reservations of record.

A successful bid for the parcel will constitute an application for conveyance of the mineral estate in accordance with Section 209 of the Federal Land Policy and Management Act of 1976 (43 U.S.C. 1719). A nonrefundable fee of $50.00 will be required from the prospective purchaser for purchase of the mineral interests. Those mineral interests, to be conveyed simultaneously with the sale of the land, have been determined to have no known mineral value.

In accordance with the goals in BLM Manual 2801.62A.1. and 2801.62B., the purchaser, if it is not Douglas L. Gross, at closing, will be required to grant an easement to Douglas L. Gross, for an existing driveway and utility line, which crosses Parcel I (OR 55523).

The land described herein is hereby segregated from appropriation under the public land laws, including the mining laws, pending disposition of the action or 270 days from the date of publication of this notice, whichever occurs first.

Public Comments

Detailed information concerning this land sale, including the reservations, sale procedures and conditions, appraisal, planning and environmental documents, and mineral report, is available for review at the Eugene District Office, Bureau of Land Management, 2890 Chad Drive, Eugene, Oregon, 97401-9336.

Objections will be reviewed by the Eugene District Manager, who may sustain, vacate, or modify this realty action. In the absence of any objections, this proposal will become the final determination of the Department of the Interior.

Comments, including names, street addresses, and other contact information of respondents, will be available for public review. Individual respondents may request confidentiality. If you wish to request that BLM consider withholding your name, street address, and other contact information (such as: Internet address, FAX or phone number) from public review or from disclosure under the Freedom of Information Act, you must state this prominently at the beginning of your comment. The BLM will honor requests for confidentiality on a case-by-case basis to the extent allowed by law. The BLM will make available for public inspection in their entirety all submissions from organizations or businesses, and from individuals identifying themselves as representatives or officials of organizations or businesses.

(Authority: 43 CFR 2711.1-2(c))
Steven A. Calish,
Field Manager, Siuslaw Resource Area.

[FR Doc. 05-16161 Filed 8-15-05; 8:45 am]

BILLING CODE 4310-33-P